DEPARTMENT OF HOMELAND SECURITY

[Docket No. DHS-2016-0051]

National Infrastructure Advisory Council

AGENCY: Department of Homeland Security.

ACTION: Committee management; notice of an open Federal Advisory Committee meeting.

SUMMARY: The National Infrastructure Advisory Council (Council) will meet Friday, September 16, 2016 at 1310 North Courthouse Road, Suite 300, Arlington, VA 22201. This meeting will be open to the public.

DATES: The National Infrastructure Advisory Council will meet on September 16, 2016 1:00 p.m.-4:00 p.m. EDT.

ADDRESSES: The meeting will be held at 1310 North Courthouse Road, Suite 300, Arlington, VA 22201. For information on facilities or services for individuals with disabilities, or to request special assistance at the meeting, contact the person listed under FOR FURTHER INFORMATION, CONTACT below as soon as possible.

The Council highly encourages public comment for its consideration and notes that it is listed as Item VI in the below meeting agenda. Written comments must be submitted no later than 8:30 a.m. EDT on September 16, 2016, in order to be considered by the Council during its meeting. Comments must be identified by “DHS-2016-0030,” and may be submitted by any one of the following methods:

• Federal eRulemaking Portal: www.regulations.gov. Follow “submitting written comments” instructions.

• Email: NIAC@hq.dhs.gov. Include the docket number in the subject line of the message.

• Fax: (703) 235-9707.

• Mail: Ginger Norris, National Protection and Programs Directorate, Department of Homeland Security, 245 Murray Lane SW., Mail Stop 0612, Washington, DC 20598-0607.

Instructions: All written submissions must include the words “Department of Homeland Security” and the docket number for this action. Written comments will be posted without alteration at www.regulations.gov, including any personal information provided.

Docket: For access to the docket and background documents, go to www.regulations.gov. Search “NIAC” for a list all relevant documents for your review. Members of the public may provide oral comments on agenda items and previous Council studies. All previous studies can be located at www.dhs.gov/NIAC. Any written comments recieved after 8:30a.m. EDT on September 16, 2016 will still be accepted and reviewed by the members, but not during the time of the meeting. In-person comments are limited to three minutes per speaker. Members of the public making comments must register with the NIAC Secretariat at the meeting location.

FOR FURTHER INFORMATION, CONTACT: Ginger Norris, National Infrastructure Advisory Council, Alternate Designated Federal Officer, Department of Homeland Security, (703) 235-2888.

SUPPLEMENTARY INFORMATION: Notice of this meeting is given under the Federal Advisory Committee Act, 5 U.S.C. appendix. The Council shall provide the President, through the Secretary of Homeland Security, with advice on the security and resilience of the Nation's critical infrastructure sectors. In addition, the Council will (1) receive a final presentation on Water Resilience from its working group members and (2) deliberate and vote upon the Water Resilience Recommendations as appropriate. All presentations will be posted at least three working days prior to the meeting on the Council's public Web page— www.dhs.gov/NIAC.

Public Meeting Agenda

I. OPENING OF MEETING

II. ROLL CALL OF MEMBERS

III. OPENING REMARKS AND INTRODUCTIONS

IV. APPROVAL OF JUNE 2016 MEETING MINUTES

V. PRESENTATIONS ON FUTURE FOCUS STUDY TOPICS

VI. PUBLIC COMMENT

VII. DISCUSSION OF NEW NIAC BUSINESS

VIII. CLOSING REMARKS

IX. ADJOURNMENT

Dated: August 23, 2016.
Ginger Norris,
Designated Federal Officer for the National Infrastructure Advisory Council.

[FR Doc. 2016-20561 Filed 8-26-16; 8:45 am]

BILLING CODE 9110-09-P